DEPARTMENT OF THE INTERIOR

National Park Service

[NPS-WASO-NAGPRA-11224; 2200-1100-665]

Notice of Inventory Completion: Stanford University Archaeology Center, Stanford, CA

AGENCY: National Park Service, Interior.

ACTION: Notice.

SUMMARY: The Stanford University Archaeology Center has completed an inventory of human remains and associated funerary objects in consultation with the appropriate Indian tribes, and has determined that there is a cultural affiliation between the human remains and present-day Indian tribes. Representatives of any Indian tribe that believes itself to be culturally affiliated with the human remains and associated funerary objects may contact the Stanford University Archaeology Center. Repatriation of the human remains to the Indian tribes stated below may occur if no additional claimants come forward.

DATES: Representatives of any Indian tribe that believes it has a cultural affiliation with the human remains and associated funerary objects should contact the Stanford University Archaeology Center at the address below by October 29, 2012.

ADDRESSES: Laura Jones, Director, Heritage Services and University Archaeologist, Archaeology Center, 488 Escondido Mall, Stanford, CA 94305, telephone (650) 723-9664.

SUPPLEMENTARY INFORMATION: Notice is here given in accordance with the Native American Graves Protection and Repatriation Act (NAGPRA), 25 U.S.C. 3003, of the completion of an inventory of human remains and associated funerary objects in the possession of the Stanford University Archaeology Center. The human remains were removed from Tulare County, CA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Stanford University Archaeology Center professional staff in consultation with representatives of the Big Sandy Rancheria of Mono Indians of California; Chicken Ranch Rancheria of Me-Wuk Indians of California; Cold Springs Rancheria of Mono Indians of California; Ione Band of Miwok Indians of California; Jackson Rancheria of Me-Wuk Indians of California; Northfork Rancheria of Mono Indians of California; Santa Rosa Indian Community of the Santa Rosa Rancheria, California; Shingle Springs Band of Miwok Indians, Shingle Springs Rancheria (Verona Tract), California; Table Mountain Rancheria of California; Tule River Indian Tribe of the Tule River Reservation, California; and the Tuolumne Band of Me-Wuk Indians of the Tuolomne Rancheria of California (hereafter referred to as “The Tribes”). Letters of inquiry were sent to The Tribes, and two tribes responded: the Tule River Indian Tribe of the Tule River Reservation, California, and the Santa Rosa Indian community of the Santa Rosa Rancheria, California.

History and Description of the Remains

Sometime prior to 1905, human remains representing, at minimum, one individual were removed from “Skull Island,” in the vicinity of the town of Alpaugh, in Tulare County, CA. Stanford University's cofounder, Mrs. Jane Stanford, donated the human remains, consisting of a human cranium, to the Stanford Museum before her death in 1905. No known individuals were identified. The two associated funerary objects are a stone pestle and a stone pendant.

In 1959, human remains representing, at minimum, two individuals were removed from site CA-TUL-090, in the vicinity of the towns of Pixley and Earlimart, in Tulare County, CA, during an excavation led by Stanford University faculty member Bert Gerow during legally authorized archaeological investigations. The site was on the property of Theodore and Charles Off, who gave permission for its excavation to the University of California at Los Angeles (UCLA) and Stanford University. The human remains include a partial skeleton and approximately 500 fragments of human bone. No known individuals were identified. The 55 associated funerary objects are 11 stone artifacts and 44 fragments of shell collected in association with the human remains. UCLA has established that the site was occupied during the Middle Period (3,500-1,500 B.P.) by ancestors of the modern Yokut tribes.

The Santa Rosa Indian Community of the Santa Rosa Rancheria, California, has provided additional information regarding these human remains and associated funerary objects to establish cultural affiliation to the Yokut tribes. Based on the site location and in accordance with the information received in the consultation process, the human remains and associated funerary objects are culturally affiliated with the Yokut communities represented by the present-day tribes of the Picayune Rancheria of Chukchansi Indians of California; Santa Rosa Indian Community of the Santa Rosa Rancheria, California; Table Mountain Rancheria of California; and the Tule River Indian Tribe of the Tule River Reservation, California.

Determinations Made by the Stanford University Archaeology Center

Officials of the Stanford University Archaeology Center have determined that:

• Pursuant to 25 U.S.C. 3001(9), the human remains described in this notice represent the physical remains of three individuals of Native American ancestry.

• Pursuant to 25 U.S.C. 3001(3)(A), the 57 objects described above are reasonably believed to have been placed with or near individual human remains at the time of death or later as part of the death rite or ceremony.

• Pursuant to 25 U.S.C. 3001(2), there is a relationship of shared group identity that can be reasonably traced between the Native American human remains and the Picayune Rancheria of Chukchansi Indians of California; Santa Rosa Indian Community of the Santa Rosa Rancheria, California; Table Mountain Rancheria of California; and the Tule River Indian Tribe of the Tule River Reservation, California.

Additional Requestors and Disposition

Representatives of any Indian tribe that believes itself to be culturally affiliated with the human remains and associated funerary objects should contact Laura Jones, Director, Heritage Services and University Archaeologist, Archaeology Center, 488 Escondido Mall, Stanford, CA 94305, telephone (650) 723-9664 before October 29, 2012. Repatriation of the human remains and associated funerary objects to the Picayune Rancheria of Chukchansi Indians of California; Santa Rosa Indian Community of the Santa Rosa Rancheria, California; Table Mountain Rancheria of California; and the Tule River Indian Tribe of the Tule River Reservation, California, may proceed after that date if no additional claimants come forward.

The Stanford University Archaeology Center is responsible for notifying the Picayune Rancheria of Chukchansi Indians of California; Santa Rosa Indian Community of the Santa Rosa Rancheria, California; Table Mountain Rancheria of California; and the Tule River Indian Tribe of the Tule River Reservation, California, that this notice has been published.

Dated: September 5, 2012.
Sherry Hutt,
Manager, National NAGPRA Program.

[FR Doc. 2012-23927 Filed 9-27-12; 8:45 am]

BILLING CODE 4312-50-P